DEPARTMENT OF TRANSPORTATION

Pipeline and Hazardous Materials Safety Administration

Hazardous Materials: Notice of Applications for Special Permits

AGENCY: Pipeline and Hazardous Materials Safety Administration (PHMSA), DOT.

ACTION: List of applications for special permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before August 8, 2016.

Address Comments To: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov.

This notice of receipt of applications for special permit is published in accordance with Part 107 of the Federal hazardous materials transportation law (49 U.S.C. 5117(b); 49 CFR 1.53(b)).

Issued in Washington, DC, on June 30, 2016.
Ryan Paquet,
Director, Approvals and Permits.

Application No. | Docket No. | Applicant | Regulation(s) affected | Nature of the special permits thereof
SPECIAL PERMITS DATA
20250-N |  | ELI LILLY AND COMPANY | 173.196(a), 173.199(A), 178,603, 178.609(D) | To authorize the transportation in commerce of certain infectious substances in specially designed packaging (freezers). (mode 1).
20251-N |  | SALCO PRODUCTS INC | 172.203(a), 178.345-1, 180.413 | To authorize the manufacture, mark, sale and use of manway assemblies constructed from stabilized polyethylene for installation on certain DOT specification cargo tank motor vehicles in transporting certain hazardous materials. (mode 1).
20252-N |  | LUXFER INC | 173.302(a), 180.205, 177.834(h) | To authorize the manufacture, marking, sale and use of non-DOT specification fully wrapped carbon fiber composite cylinder with a no-load sharing polymer liner for the transport of certain hazardous materials. (modes 1, 2, 3).
20254-N |  | P.J. HELICOPTERS, INC | 173.315(j), 172.101(h)(i), 172.301(c), 172.302(c) | To authorize the transportation in commerce in the U.S. only of certain hazardous materials by 14 CFR Part 133 Rotorcraft External Load Operations transporting hazardous materials attached to or suspended from an aircraft and 14 CFR Part 135 operations transporting hazardous materials on board an aircraft. (mode 4).
20257-N |  | VEOLIA ES TECHNICAL SOLUTIONS LLC | 173.21(b), 173.51(a), 173.54(a), 173.56(b) | To authorize the one-time, one-way transportation of unapproved explosives by motor vehicle. (mode 1).
20258-N |  | WINCO FIREWORKS | 173.62(c), 172.310(c) | To authorize the one-way transportation in commerce of Division 1.4G consumer fireworks in non-DOT specification fiberboard non-bulk out packagings under the terms and conditions specified when transported by private, contract or common carrier. (mode 1).
20261-N |  | SAFT S.A | 173.185(a) | To authorize the transportation in commerce of prototype and low production lithium ion cells and batteries and lithium metal cells and batteries by cargo-only aircraft. (mode 4).

[FR Doc. 2016-16066 Filed 7-7-16; 8:45 am]

BILLING CODE 4909-60-M